SMALL BUSINESS ADMINISTRATION

Interest Rates

The Small Business Administration publishes an interest rate called the optional “peg” rate (13 CFR 120.214) on a quarterly basis. This rate is a weighted average cost of money to the government for maturities similar to the average SBA direct loan. This rate may be used as a base rate for guaranteed fluctuating interest rate SBA loans. This rate will be 4.625 (4⅝) percent for the January-March quarter of FY 2006.

Luz A. Hopewell,
Deputy Associate Administrator for Financial Assistance.

[FR Doc. E5-8011 Filed 12-28-05; 8:45 am]

BILLING CODE 8025-01-P